ENVIRONMENTAL PROTECTION AGENCY

40 CFR Part 63

[EPA-HQ-OAR-2006-0859; FRL-8318-5]

RIN 2060-AN85

Risk and Technology Review, Phase II, Group 2

AGENCY: Environmental Protection Agency (EPA).

ACTION: Advanced Notice of Proposed Rulemaking (ANPRM); extension of public comment period.

SUMMARY: EPA is announcing that the comment period for the advanced notice for proposed rulemaking for the Risk and Technology Review, Phase II, Group 2 published on March 29, 2007, is being extended until June 29, 2007, for all source categories except Petroleum Refineries.

DATES: Comments. The comment period has been extended from May 29, 2007. Comments must now be received on or before June 29, 2007.

ADDRESSES: Submit your comments, identified by Docket ID No. EPA-HQ-OAR-2006-0859, by one of the following methods:

• www.regulations.gov. Follow the on-line instructions for submitting comments.

• E-mail: a-and-r-docket@epa.gov, Attention Docket ID No. EPA-HQ-OAR-2006-0859.

• Facsimile: (202) 566-1741, Attention Docket ID No. EPA-HQ-OAR-2006-0859.

• Mail: U.S. Postal Service, send comments to: EPA Docket Center (6102T), Attention E-Docket ID No. EPA-HQ-OAR-2006-0859, 1200 Pennsylvania Ave., NW., Washington, DC 20460. Please include a total of two copies.

• Hand Delivery: In person or by courier, deliver comments to: EPA Docket Center (6102T), EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2006-0859. As described further in section VII of the advanced notice of proposed rulemaking, specific data change suggestions need to be accompanied by supporting documentation that includes a description of any assumptions used and any technical information and/or data that you used. We strongly urge that all data revision comments be submitted in the form of updated Microsoft(r) Access files, which are provided on the http://www.epa.gov/ttn/atw/rrisk/rtrpg.html webpage. Data in the form of written descriptions or other electronic file formats will be difficult for EPA to translate into the necessary format in a timely manner. Additionally, placing the burden on EPA to interpret data submitted in other formats increases the possibility of misinterpretation or errors. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov, or e-mail. Send or deliver information identified as CBI only to the following address: Mr. Roberto Morales, OAQPS Document Control Officer, U.S. EPA (C404-02), Attention Docket ID No. EPA-HQ-OAR-2006-0859, Research Triangle Park, NC 27711. Clearly mark the part or all of the information that you claim to be CBI. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the www.regulations.gov index. Although listed in the index, some information is not publicly available, (i.e., CBI or other information whose disclosure is restricted by statute). Certain other material, such as copyrighted material will be publicly available only in hard copy. Publicly available docket materials are available either electronically in www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the EPA Docket Center is (202) 566-1742.

FOR FURTHER INFORMATION CONTACT: Paula Hirtz, Office and Air Quality Planning and Standards, Sector Policies and Programs Division, Coatings and Chemicals Group (E143-01), Environmental Protection Agency, Research Triangle Park, NC 27711; telephone number: (919) 541-2618; fax number: (919) 541-0246; and e-mail address: hirtz.paula@epa.gov.

SUPPLEMENTARY INFORMATION: Regulated Entities. Entities potentially affected by this action include facilities containing any one or more of the 22 major source categories subject to the 12 national emission standards for hazardous air pollutants (NESHAP) (or commonly referred to maximum achievable control technology (MACT) standards) listed in Table 1. The Petroleum Refineries source category is affected by this action, but will not receive an extension of the comment period due to the court-ordered deadline of August 22, 2007, for proposal of the technology review. This action does not affect area sources, as these NESHAP do not apply to area sources. Industries regulated by these MACT are classified by the North American Industry Classification System (NAICS) codes shown in Table 1. In addition, a classification system of MACT codes has been developed and is used in the 2002 National Emissions Inventory to identify processes included in each MACT source category. The MACT codes for the 22 source categories addressed in this notice are also displayed in Table 1.

Table 1.—MACT Standards, Source Categories, and Corresponding NAICS and MACT Codes Addressed by This ANPRM
MACT standard/source category name | NAICS code | MACT code
Mineral Wool Production | 327993 | 0409
Aerospace Manufacturing and Rework Facilities | 336411 | 0701
Marine Tank Vessel Loading Operations | 4883 | 0603
Natural Gas Transmission and Storage | 486210 | 0504
Oil and Natural Gas Production | 211 | 0501
Petroleum Refineries | 32411 | 0503
Pharmaceuticals Production | 3254 | 1201
Group I Polymers and Resins:
Epichlorohydrin Elastomers Production | 325212 | 1311
Hypalon™ Production | 325212 | 1315
Nitrile Butadiene Rubber Production | 325212 | 1321
Polybutadiene Rubber Production | 325212 | 1325
Styrene-Butadiene Rubber and Latex Production | 325212 | 1339
Group IV Polymers and Resins:
Acrylic-Butadiene-Styrene Production | 325211 | 1302
Methyl Methacrylate-Acrylonitrile-Butadiene-Styrene Production | 325211 | 1317
Methyl Methacrylate-Butadiene-Styrene Production | 325211 | 1318
Nitrile Resins Production | 325211 | 1342
Polyethylene Terephthalate Production | 325211 | 1328
Polystyrene Production | 325211 | 1331
Styrene-Acrylonitrile Production | 325211 | 1338
Primary Aluminum Reduction Plants | 331312 | 0201
Printing and Publishing Industry | 32311 | 0714
Shipbuilding and Ship Repair Operations | 336611 | 0715

Worldwide Web (WWW). In addition to being available in the docket, an electronic copy of today's notice will be available on the WWW through the Technology Transfer Network (TTN). Following the Assistant Administrator's signature, a copy of this notice will be posted on TTN's policy and guidance page for newly proposed or promulgated rules at http://www.epa.gov/ttn/oarpg. The TTN provides information and technology exchange in various areas of air pollution control. Additional information is available on the Risk and Technology Review Phase II webpage at http://www.epa.gov/ttn/atw/rrisk/rtrpg.html. This information includes source category descriptions and detailed emissions and other data that will be used as model inputs.

Comment Period

We received 15 requests to extend the public comment period on the advance notice of proposed rulemaking for the Risk and Technology Review, Phase II, Group 2 (72 FR 14734, March 29, 2007). We are extending the comment period to June 29, 2007, for all source categories except Petroleum Refineries. EPA is under a court-ordered deadline to propose action on the technology review for this source category by August 22, 2007. All comments for Petroleum Refineries must be received by May 29, 2007. Public comments must be received on or before June 29, 2007 for all other source categories.

How can I get copies of the proposed amendments and other related information?

EPA has established the official public docket for the proposed rulemaking under Docket ID No. EPA-HQ-OAR-2006-0859. Information on how to access the docket is presented above in the ADDRESSES section. In addition, information may be obtained from the Web page for the proposed rulemaking at: http://www.epa.gov/ttn/atw/rrisk/rtrpg.html.

Dated: May 18, 2007.
William L. Wehrum,
Acting Assistant Administrator for Air and Radiation.

[FR Doc. E7-10128 Filed 5-24-07; 8:45 am]

BILLING CODE 6560-50-P